DEPARTMENT OF TRANSPORTATION

National Highway Traffic Safety Administration

[Docket No. NHTSA-2012-0059]

Agency Information Collection Activity Under OMB Review: Automotive Fuel Economy Reports

AGENCY: National Highway Traffic Safety Administration (NHTSA), Department of Transportation (DOT).

ACTION: Notice and request for comments.

SUMMARY: The Department of Transportation (DOT) invites public comments about our intention to request the Office of Management and Budget (OMB) approval for a renewal of an information collection. The collection involves vehicle manufacturers submitting reports to the Secretary of Transportation on whether a manufacturer will comply with an applicable average fuel economy standard for the model year for which the report is made, the actions a manufacturer has taken or intends to take to comply with the standard and other information the Secretary requires by regulation. The information to be collected will be used to and/or is necessary because of the requirements of 49 U.S.C. 32902. We are required to publish this notice in the Federal Register by the Paperwork Reduction Act of 1995, Public Law 104-13.

DATES: Written comments should be submitted by July 17, 2012.

ADDRESSES: You may submit comments [identified by Docket No. NHTSA-2012-0059] through one of the following methods:

• Federal eRulemaking Portal: http://www.regulations.gov. Follow the online instructions for submitting comments.

• Fax: 1 (202) 493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Kenneth R. Katz, Fuel Economy Division, Office of International Policy, Fuel Economy and Consumer Programs, NVS-132, National Highway Traffic Safety Administration, U.S. Department of Transportation, 1200 New Jersey Avenue SE., Washington, DC 20590. Phone: (202) 366-4936.

SUPPLEMENTARY INFORMATION: OMB Control Number: 2127-0019.

Title: 49 CFR part 537, Automotive Fuel Economy Reports.

Type of Review: Renewal of a previously approved information collection .

Background: 49 United States Code (U.S.C.) 32907(a) requires a manufacturer to submit reports to the Secretary of Transportation on whether a manufacturer will comply with an applicable average fuel economy standard under 49 U.S.C. 32902 of this title for the model year for which the report is made, the actions a manufacturer has taken or intends to take to comply with the standard and other information the Secretary requires by regulation. Under 49 CFR part 537, NHTSA also requires manufacturers to provide data on vehicle footprint so that the agency can determine a manufacturer's required fuel economy level and its compliance with that level.

The information collected provides NHTSA with advance indication whether automotive manufacturers are complying with the applicable average fuel economy standards, furnishes NHTSA with the necessary information to prepare its annual update on the Automotive Fuel Economy Program, aids NHTSA in responding to general requests concerning automotive fuel economy and supplies NHTSA with detailed and current technical and economic information that will be used to evaluate possible future average fuel economy standards.

Respondents: Automobile manufacturers.

Estimated Number of Respondents: 30.

Estimated Number of Responses: 54; some manufacturers have multiple fleets and 49 CFR part 537 requires a separate report for each fleet.

Estimated Total Annual Burden: Thirty automotive manufacturers must comply with 49 CFR 537. For each current model year, each manufacturer is required to submit semi-annual reports: A pre-model year report and a mid-model year report. The pre-model year report must be submitted during the month of December, and the mid-model year report must be submitted during the month of July. The total number of responses submitted by automotive manufacturers is 54. We currently have a clearance based on reports being received from 22 manufacturers with an estimated total annual burden of 2,339 hours. Including 8 additional manufacturers, results in an additional reporting burden of 850 hours. Adding that burden to the existing burden of 2,339 hours, results in a total of 3,189 hours.

Estimated Frequency: A pre-model report and a mid-model report are required to be submitted by manufacturers once per model year for each applicable fleet (domestic passenger car, imported passenger car and light trucks).

Public Comments Invited: You are asked to comment on any aspect of this information collection, including (a) whether the proposed collection of information is necessary for the Department's performance, (b) the accuracy of the estimated burden, (c) ways for the Department to enhance the quality, utility and clarity of the information collection and (d) ways that the burden could be minimized without reducing the quality of the collected information. The agency will summarize and/or include your comments in the request for OMB's clearance of this information collection.

Authority: The Paperwork Reduction Act of 1995; 44 U.S.C. Chapter 35, as amended; and 49 CFR 1:48.

Dated: Issued on: May 11, 2012.
Christopher J. Bonanti,
Associate Administrator for Rulemaking.

[FR Doc. 2012-12049 Filed 5-17-12; 8:45 am]

BILLING CODE 4910-59-P